ENVIRONMENTAL PROTECTION AGENCY

[EPA-HQ-OLEM-2018-0102, FRL-9982-09-OEI]

Agency Information Collection Activities; Submission to OMB for Review and Approval; Comment Request; RCRA Expanded Public Participation (Renewal)

AGENCY: Environmental Protection Agency (EPA)

ACTION: Notice.

SUMMARY: The Environmental Protection Agency (EPA) has submitted an information collection request (ICR), RCRA Expanded Public Participation (EPA ICR No. 1688.09, OMB Control No. 2050-0149), to the Office of Management and Budget (OMB) for review and approval in accordance with the Paperwork Reduction Act. This is a proposed extension of the ICR, which is currently approved through August 31, 2018. Public comments were previously requested via the Federal Register on March 21, 2018 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 13, 2018.

ADDRESSES: Submit your comments, referencing Docket ID No. EPA-HQ-OLEM-2018-0102, to (1) EPA, either online using www.regulations.gov (our preferred method), or by email to rcra-docket@epa.gov, or by mail to: RCRA Docket (2822T), U.S. Environmental Protection Agency, 1200 Pennsylvania Avenue NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Michael Pease, (5303P), Environmental Protection Agency, 1200 Pennsylvania Ave. NW, Washington, DC 20460; telephone number: 703-308-0008; fax number: 703-308-8433; email address: pease.michael@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Resource Conservation and Recovery Act (RCRA) of 1976, as amended by the Hazardous and Solid Waste Amendments (HSWA) of 1984, requires EPA to establish a national regulatory program to ensure that hazardous wastes are managed in a manner protective of human health and the environment. Section 7004(b) of RCRA gives EPA broad authority to provide for, encourage, and assist public participation in the development, revision, implementation, and enforcement of any regulation, guideline, information, or program under RCRA. In addition, the statute specifies certain public notices (i.e., radio, newspaper, and a letter to relevant agencies) that EPA must provide before issuing any RCRA permit. The statute also establishes a process by which the public can dispute a permit and request a public hearing to discuss it. EPA carries out much of its RCRA public involvement at 40 CFR parts 124 and 270.

Form numbers: None.

Respondents/affected entities: Businesses and other for-profit.

Respondent's obligation to respond: Mandatory (RCRA 7004(b)).

Estimated number of respondents: 46.

Frequency of response: On occasion.

Total estimated burden: 4,375 hours per year. Burden is defined at 5 CFR 1320.03(b).

Total estimated cost: $326,263 (per year), which includes $321,833 annualized labor and $4,430 annualized capital and operation & maintenance costs.

Changes in the estimates: There is a decrease in overall burden for the ICR of 1,239 hours in the total estimated respondent burden compared with the ICR currently approved by OMB. This decrease is due to the decrease in the respondent universe from 59 to 46.

Courtney Kerwin,
Director, Regulatory Support Division.

[FR Doc. 2018-17441 Filed 8-13-18; 8:45 am]

BILLING CODE 6560-50-P